DEPARTMENT OF ENERGY

Federal Energy Regulatory Commission

[Docket No. EL07-84-000]

PacifiCorp; Notice of Institution of Proceeding and Refund Effective Date

July 31, 2007.

On July 30, 2007, the Commission issued an order that instituted an investigation in the above-referenced docket, pursuant to section 206 of the Federal Power Act (FPA), 16 U.S.C. 824e, concerning PacifiCorp's system-wide rates for all transmission services. PacifiCorp, 120 FERC ¶ 61,113 (2007).

The refund effective date in the above-docketed proceeding, pursuant to section 206(b) of the FPA, will be January 1, 2008.

Kimberly D. Bose,
Secretary.

[FR Doc. E7-15279 Filed 8-6-07; 8:45 am]

BILLING CODE 6717-01-P